DEPARTMENT OF COMMERCE

National Oceanic and Atmospheric Administration

[I.D. 110706B]

Endangered and Threatened Species; Recovery Plans; Proposed Recovery Plan for Southern Resident Killer Whales

AGENCY: National Marine Fisheries Service (NMFS), National Oceanic and Atmospheric Administration (NOAA), Commerce.

ACTION: Notice of availability; request for comments.

SUMMARY: We, the National Marine Fisheries Service (NMFS), announce the availability for public review of the Proposed Recovery Plan (Plan) for Southern Resident Killer Whales (Orcinus Orca). NMFS is requesting review and comment on the Plan from the public and all interested parties.

DATES: Written comments and information must be received by February 27, 2007.

ADDRESSES: Copies of the Plan may be reviewed and/or copied at NMFS, Protected Resources Division, 7600 Sand Point Way NE, Seattle, WA 98115. The Plan is available on-line on the NMFS web site http://www.nwr.noaa.gov. Comments should be submitted by mail to Chief, Protected Resources Division, 1201 NE Lloyd Blvd., Suite 1100, Portland, OR 97232 or by sending an e-mail message to orca.plan@noaa.gov.

FOR FURTHER INFORMATION CONTACT: Lynne Barre, NOAA/NMFS, Northwest Region, (206) 526-4745.

SUPPLEMENTARY INFORMATION: The Endangered Species Act (ESA) of 1973, as amended (15 U.S.C. 1531 et seq.) requires that NMFS develop and implement recovery plans for the conservation and survival of threatened and endangered species under its jurisdiction, unless it is determined that such plans would not result in the conservation of the species. NMFS announced the endangered listing of the Southern Resident killer whale distinct population segment (DPS) on November 18, 2005 (70 FR 69903). Prior to the ESA listing, NMFS designated the Southern Resident killer whale population as a depleted stock under the Marine Mammal Protection Act (MMPA; 16 U.S.C. 1361 et seq.) on May 29, 2003 (68 FR 31980). At the time of the designation, we announced our intention to develop a conservation plan.

We held a series of public meetings and technical workshops to gather input from Federal Government agency representatives, state and tribal co-managers, Canadian officials, orca advocacy groups, non-governmental organizations, researchers, whale watch industry, and concerned citizens. We circulated a preliminary draft conservation plan for public review on March 14, 2005. We received comments on the preliminary draft, and made revisions in response to the comments. We subsequently published a Notice of Availability of a Proposed Conservation Plan in the Federal Register on October 3, 2005 (70 FR 57565), opening a public comment period. We received comments on the proposed conservation plan and have addressed them in the proposed recovery plan. In addition to addressing the comments, we have incorporated ESA elements into the plan, including discussions of the five ESA listing factors, critical habitat, section 7, and ESA recovery criteria. We also included new research results and references that have become available since the proposed conservation plan was released.

The Plan

The ESA requires that recovery plans incorporate (1) objective, measurable criteria which, when met, would result in a determination that the species is no longer threatened or endangered; (2) site-specific management actions necessary to achieve the plan's goals; and (3) estimates of time required and costs to implement recovery actions. NMFS' goal is to restore the endangered Southern Resident DPS to the point where they are again secure, self-sustaining members of their ecosystems and no longer need the protections of the ESA.

The Plan provides background on the natural history of killer whales, population trends and the potential threats to their viability. The Plan lays out a recovery strategy to address the potential threats based on the best available science and includes recovery goals and criteria. The Plan is not a regulatory action, but presents guidance for use by agencies and interested parties to assist in the recovery of Southern Resident killer whales. The Plan identifies substantive actions needed to achieve recovery by addressing the threats to the species. The program also links management actions to an active research program for filling data gaps, and monitoring activities to assess effectiveness. The Plan incorporates an adaptive management framework by which Plan actions and other elements will evolve and adapt to information gained as a result of research and monitoring. Recovery of Southern Resident killer whales is a long-term effort and will require cooperation and coordination of Federal, state, tribal and local government agencies, and the community.

We request comments on the Proposed Recovery Plan for Southern Resident Killer Whales with this notice. NMFS will consider substantive comments and information provided during the public comment period in the course of finalizing this Plan.

Dated: November 22, 2006.
Angela Somma,
Chief, Endangered Species Division, Office of Protected Resources, National Marine Fisheries Service.

[FR Doc. 06-9454 Filed 11-28-06; 8:45 am]

BILLING CODE 3510-22-S